DEPARTMENT OF COMMERCE

National Oceanic and Atmospheric Administration

50 CFR Part 635

[Docket No. 000323080-0329-02; I.D. 031500A]

RIN 0648-AN97

Atlantic Highly Migratory Species (HMS); Atlantic Tunas Reporting, Fishery Allocations and Regulatory Adjustments

AGENCY: National Marine Fisheries Service (NMFS), National Oceanic and Atmospheric Administration (NOAA), Commerce.

ACTION: Proposed rule; public hearings; request for comments.

SUMMARY: NMFS proposes to amend the regulations governing the Atlantic HMS fisheries to require mandatory dealer reporting of all purchases of Atlantic bigeye, albacore, yellowfin, and skipjack (BAYS) tunas; adjust the north-south dividing line for the Atlantic bluefin tuna (BFT) Angling category subdivisions; adjust associated subquota percentages allocated to each area; modify regulatory text to clarify the requirement that imports, exports, and re-exports of bluefin tuna (both Atlantic and Pacific subspecies) must be accompanied by a Bluefin Tuna Statistical Document (BSD); and modify regulatory text to facilitate enforcement of, and compliance with, the regulations. The proposed regulatory amendment is necessary to comply with the United States’ obligations under the Magnuson-Stevens Fishery Conservation and Management Act (Magnuson-Stevens Act), the Atlantic Tunas Convention Act (ATCA), and the Fishery Management Plan for Atlantic Tunas, Swordfish, and Sharks (HMS FMP). NMFS will hold public hearings to receive comments from fishery participants and other interested parties regarding the proposed regulatory amendment.

DATES: Written comments must be received on or before January 30, 2001.

The public hearing dates are:

1. December 11, 2000, 7-9 p.m., Ocean City, MD.

2. December 12, 2000, 7-9 p.m., Cape May, NJ.

ADDRESSES: Written comments on the proposed regulatory amendment should be sent to Christopher Rogers, Acting Chief, Highly Migratory Species Management Division, Office of Sustainable Fisheries (F/SF1), NMFS, 1315 East-West Highway, Silver Spring, MD 20910-3282. Comments also may be sent via facsimile (fax) to (301) 713-1917. Comments will not be accepted if submitted via e-mail or the Internet. Comments regarding the collection of information requirements contained in this proposed rule should be sent to the above address and to the Office of Information and Regulatory Affairs, Office of Management and Budget (OMB), Washington, DC, 20503 (Attention: NOAA Desk Officer).

The public hearing locations are:

1. Cape May—The Inn of Cape May, 7 Ocean St, Cape May, NJ 08204.

2. Ocean City—Ocean City Rec & Parks Dept., 200-125th Street, Ocean City, MD 21842.

FOR FURTHER INFORMATION CONTACT: Pat Scida, (978) 281-9208.

SUPPLEMENTARY INFORMATION: Atlantic tunas are managed under the dual authority of the Magnuson-Stevens Act and ATCA. ATCA authorizes the Secretary of Commerce (Secretary) to implement binding recommendations of the International Commission for the Conservation of Atlantic Tunas (ICCAT). The authority to issue regulations under the Magnuson-Stevens Act and ATCA has been delegated from the Secretary to the Assistant Administrator for Fisheries, NOAA (AA).

BAYS Dealer Reporting

On May 28, 1999, NMFS published in the Federal Register (64 FR 29090) final regulations implementing the HMS FMP that was adopted and made available to the public in April 1999. The implementing regulations require dealers that receive Atlantic swordfish and Atlantic sharks from U.S. vessels to report to NMFS all Atlantic tunas (including BAYS) received from U.S. vessels (50 CFR 635.5(b)(1)(i)). The regulations require dealers to report BAYS tunas only when received together with sharks and swordfish. As BAYS tunas are usually landed and sold along with other species, and because many dealers voluntarily report their BAYS purchases (dealers are often permitted in several fisheries and record all purchases on a consolidated HMS reporting form), the lack of mandatory reporting of BAYS tunas has not likely resulted in significant underreporting. Recently, however, several new dealers in the U.S. Virgin Islands and Puerto Rico have obtained dealer permits, and most of these dealers are handling BAYS tunas only. In order to collect data from these new dealers and to ensure that U.S. data on BAYS tunas are complete, NMFS needs to require that all purchases of BAYS tunas be reported, regardless of whether other regulated HMS are purchased. NMFS, therefore, proposes to amend the HMS regulations to require dealers to report all purchases of BAYS tunas, regardless of whether they also purchase Atlantic sharks or swordfish. Similar to current reporting regulations for sharks and swordfish, NMFS proposes to require dealers to submit negative reports for reporting periods in which they do not purchase and/or receive BAYS tunas.

BFT Angling Category Geographical Division

In response to quota reductions in 1992, two management areas were created for the BFT Angling category fishery. The north-south division line is located at 38°47' N. latitude (Delaware Bay). The geographic split was designed to enable NMFS to manage the early season (June/July off the Virginia to Delaware coasts) and late season (August/September off the New Jersey to Massachusetts coasts) to manage BFT fisheries under separate quotas, corresponding with the summer feeding migration of school, large school, and small medium BFT.

For the last several BFT fishing seasons, NMFS has received comments that an adjustment to the Angling category BFT north-south division line is warranted. Specifically, vessels fishing for BFT from ports in southern New Jersey, which is in the northern area, tend to utilize fishing areas located in the southern area (i.e., offshore of Ocean City, Maryland). This pattern of activity raises two concerns with respect to the dividing line for the southern and northern areas. First, when the southern and northern areas are both open, a significant number of fish caught in the southern area are landed in the northern area and counted against the applicable northern area subquotas. Second, when the southern area is closed, vessels from southern New Jersey are effectively excluded from the school BFT fishery because the fish are generally distributed too far north to accommodate single-day trips.

Because of differing opinions on where a new dividing line should be placed and on the associated reallocation of subquotas, NMFS published an Advance Notice of Proposed Rulemaking (ANPR) in the Federal Register on April 10, 2000 (65 FR 18960), requesting public comments regarding the geographical division of the BFT Angling category fishery and whether an adjustment of the north-south division line and an associated adjustment of the BFT subquota percentages allocated to each area is warranted.

During the comment period, NMFS received 13 comments on the ANPR, and NMFS staff attended an industry-sponsored meeting regarding the ANPR in Ocean City, MD. The comments received as well as the recommendations from the meeting indicate an industry preference for adjustment of the north-south dividing line to Ocean City, NJ, at 39o18' N. lat., just north of Great Egg Inlet. Moving the line to this location would effectively isolate the recreational fisheries, since virtually all vessels fishing for BFT from Ocean City, NJ, and areas south fish in the southern, early season fishery (as suggested to NMFS in previous public comments). Adjustment of the line may reduce confusion regarding fishing areas and catch limits and may prevent vessels from being excluded from participating in the fishery, particularly when seasonal retention limits are different in the two areas. Thus, NMFS proposes to move the line to this new location and has preliminarily determined that this proposed action would ensure reasonable fishing opportunities in all geographic areas without risking overharvest of the Angling category quota.

Angling Category BFT Subquotas

Public comment on an appropriate subdivision of Angling category quota between the two areas was less consistent than on the location of the dividing line. Several comments supported the status quo, whereas other comments suggested a transfer of a small amount of quota (i.e., 2 to 5 metric tons (mt)) from the north to south. However, most comments suggested switching the current allocation percentage from 52.8 percent in the north and 47.2 percent in the south to 47.2 percent to the north and 52.8 percent to the south. Comments generally supported the notion that any change be fair and equitable based on the geographic extent of the adjustment to the dividing line.

However, the geographic distance involved in the movement of the dividing line is slight (31 nautical miles), and at this fine spatial resolution, data are insufficient to determine the precise changes in landings for the respective areas. Nevertheless, as a consequence of moving the dividing line, additional catch is now expected to be applied against the southern area (with a corresponding decrease in the north), and some change in quota allocation is appropriate between these two areas. Therefore, NMFS proposes to reverse the Angling category subquota allocations to 47.2 percent for the north and 52.8 percent for the south. Thus, as an example, if the total Angling category quota for school-size BFT were 100 mt, the reallocation from the north to the south would be approximately 5.6 mt. Public comment is specifically requested on the proposed reallocation of quota, as well as any suggestions for alternative quota reallocations.

BSD Requirements

On March 17, 1995, NMFS published final regulations requiring an appropriately completed, approved BSD as a condition for import, export, or re-export of bluefin tuna into or from the United States (60 FR 14381). Because the Atlantic and Pacific stocks of northern bluefin tuna are of the same species subject to the ICCAT recommendations, implementation of, and compliance with, the ICCAT BSD program also applies to Pacific bluefin tuna. Implementing regulations for the HMS FMP, published on May 28, 1999 (64 FR 29090), were not intended to alter the applicability of the BSD regulations, but due to the definitions and acronyms used to define Atlantic bluefin tuna (i.e., BFT) and all species of northern bluefin tuna (i.e., bluefin tuna), the regulatory text requires clarification. The proposed revision would clarify that the BSD requirements, consistent with ICCAT recommendations, apply to all northern bluefin tuna (i.e., northern bluefin tuna from both the Atlantic and Pacific oceans), not just BFT.

Facilitation of Enforcement and Compliance

Tagging and Offloading of BFT

Current regulations specify that large medium and giant BFT caught and retained by vessels in a commercial Atlantic tunas vessel permit category must be tagged upon offloading. Numerous vessels that are not permanently docked at any particular port, but that are brought to a launch site by a trailer, are used to fish for BFT under the General category quota. Current regulations can be interpreted to allow vessels to be removed from the water and trailered away from the landing port, with an untagged BFT inside the vessel. This proposed rule would amend the regulations to require that, for trailered vessels, BFT be tagged immediately upon the vessel being removed from the water.

Definition of Pelagic Longline Gear

The regulatory text for the final rule implementing the DeSoto Canyon, east Florida coast, and Charleston Bump closures (65 FR 47214, August 1, 2000) defines pelagic longline gear in a manner designed to avoid applying the vessel monitoring system requirement and fishing restrictions to vessels fishing with bottom longline gear. The regulations define pelagic longline gear as a longline that is suspended by floats in the water column and that is not fixed to or in contact with the ocean bottom. It consists of five components: a power-operated longline hauler, a mainline, high-flyers, floats capable of supporting the length of the mainline, and leaders (gangions) with hooks. Those regulations further state that the removal of any one of these components from a vessel constitutes the removal of pelagic longline gear. Vessel operators removing one or all of the listed components would be eligible to fish in the closed areas and would not be required to operate a VMS while at sea.

Since publication of the time and area requirements, NMFS has become aware that it is possible to use a longline that is suspended by floats without the use of high-flyers. Fishing vessels could potentially utilize the remaining components of pelagic longline gear in the areas when closed to target HMS with pelagic longlines in the closed areas, thereby undermining the objective of bycatch reduction and reducing the benefits of the closures. Removal of the term “high-flyer” from the list of components constituting pelagic longline gear would avoid this potential problem. This measure would have no measurable impact on the environment or fishermen, since the intent of the closures is to prohibit all pelagic longline fishing by vessels with HMS fishing permits when the areas are closed. The environmental, economic, and social impacts associated with the closures were previously considered and are discussed in detail in the HMS FMP and Final Supplemental Environmental Impact Statement issued for the August 1, 2000, final rule.

Swordfish Minimum Size

In 1991, ICCAT adopted a prohibition on the taking and landing of swordfish, in the entire Atlantic Ocean, weighing less than 25 kg (55 lbs) or measuring less than 125 cm (approximately 50 inches) Lower Jaw Fork Length (LJFL), with a tolerance of 15 percent undersized fish. In 1996, the United States adopted an alternative minimum size of 119 cm (47 inches) LJFL, with no tolerance for undersized fish in order to better enforce the regulation and protect small swordfish. In recent regulations, NMFS converted the minimum size to a cleithrum to keel measurement which relates to the manner in which commercially-landed swordfish are dressed for resale (61 FR 27304, May 31, 1996).

The recreational swordfish fishery is re-emerging, particularly on the East Coast of Florida, and NMFS seeks to provide recreational fishermen with a size limit that is easy to estimate while the fish is still in the water, thereby facilitating release of undersized swordfish. Therefore, NMFS proposes to modify the existing regulations to also specify the existing size limit in terms of LJFL. This change to the regulations would specify that the LJFL of a retained swordfish must be no less than 119 cm or 47 inches. The specification of the minimum size in this manner would facilitate compliance by recreational fishermen, while allowing for retention of legal-sized swordfish in the fishery.

Collection of Scientific or Management Information

In addition to the measures here, this proposed rule would restore a prohibition on assaulting or impeding NMFS employees or contractors collecting scientific or management information on Atlantic HMS that was inadvertently omitted when the HMS regulations were consolidated under 50 CFR part 635 (64 FR 29090, May 28, 1999).

Public Hearings and Special Accommodations

Participants at the public hearings are expected to conduct themselves appropriately. At the beginning of each public hearing, a NMFS representative will explain the ground rules (i.e., alcohol is prohibited from the hearing room; attendees will be called to give their comments in the order in which they registered to speak; each attendee will have an equal amount of time to speak; attendees should not interrupt one another). The NMFS representative will attempt to structure the hearing so that all attending members of the public will be able to comment, if they so choose, regardless of the controversial nature of the subject(s). Attendees are expected to respect the ground rules, and, if they do not, they will be asked to leave the hearing.

The public hearing sites are physically accessible to people with disabilities. Requests for sign language interpretation or other auxiliary aids should be directed to Pat Scida (see FOR FURTHER INFORMATION CONTACT) at least 7 days prior to the hearing.

After reviewing the public comments and additional information or data that may be available, NMFS will, if appropriate, make final determinations regarding the consistency of these proposed measures with the Magnuson-Stevens Act and its national standards, ATCA, the objectives of the HMS FMP, and other applicable law.

Classification

This proposed regulatory amendment is published under the authority of the Magnuson-Stevens Act, 16 U.S.C. 1801 et seq., and ATCA, 16 U.S.C. 971 et seq. Preliminarily, the AA has determined that the regulations contained in the proposed regulatory amendment are consistent with the Magnuson-Stevens Act, ATCA, and the HMS FMP.

The Chief Counsel for Regulation of the Department of Commerce has certified to the Chief Counsel for Advocacy of the Small Business Administration that this proposed regulatory amendment, if implemented, would not have a significant economic impact on a substantial number of small entities as follows:

The proposed regulatory amendment would amend the highly migratory species regulations to require mandatory dealer reporting of all purchases of BAYS tunas, change the north/south dividing line (and quota distribution) for the Angling category BFT fishery, clarify regulations regarding BSD reporting requirements, and modify regulatory text to facilitate enforcement of, and compliance with, the regulations. Because the proposed regulations would only: (1) modify and/or clarify reporting requirements; (2) require permitted Atlantic tuna dealers to submit reports at estimated annual burden of less then 2 hours per year; (3) implement a minor change to the geographic division of the BFT Angling category division line (by approximately 30 nautical miles) and subquota allocation (by less than 10 mt); and (4) modify regulations to facilitate enforcement of, and compliance with, regulations, there is no anticipated change in revenues that would accrue to small businesses in the fishery overall, and the amendment would not alter current fishing practices in any significant way.

Because of this certification, an Initial Regulatory Flexibility Analysis was not prepared.

This proposed regulatory amendment has been determined to be not significant for purposes of Executive Order 12866.

This proposed regulatory amendment would not significantly change the operations of any HMS fishery. Since the proposed regulatory amendment would modify reporting requirements and would not alter fishing practices, it is not expected to increase endangered species or marine mammal interaction rates.

NMFS reinitiated formal consultation for all Atlantic HMS commercial fisheries on November 19, 1999, under section 7 of the Endangered Species Act. NMFS issued a Biological Opinion (BO) on June 30, 2000, and concluded that the Atlantic pelagic longline fishery for tunas, swordfish, and sharks is likely to jeopardize the continued existence of leatherback and loggerhead sea turtles, and may adversely affect, but is not likely to jeopardize, the continued existence of other listed and protected species. Additionally, NMFS concluded that other components of the Atlantic tunas fisheries (purse seine, handgear, traps) may adversely affect, but are not likely to jeopardize, the continued existence of listed and protected species. The BO determined reasonable and prudent alternatives to avoid jeopardizing the continued existence of any protected species and incorporated an incidental take statement listing reasonable and prudent measures and terms and conditions to implement those measures that would serve to reduce takes.

Since the June 30, 2000, BO was issued, NMFS has concluded that further analyses of observer data and additional population modeling of loggerhead sea turtles are needed to determine more precisely the impact of the pelagic longline fishery on sea turtles. Consequently, NMFS has re-initiated consultation. NMFS anticipates completing the consultation and issuing a new BO in early 2001. Until the consultation is completed and appropriate long-term measures can be determined, NMFS has implemented emergency measures in the short-term to reduce sea turtle bycatch and bycatch mortality in the pelagic longline fishery. The regulations proposed in this document, if implemented, would not likely increase takes of listed species and would not result in any irreversible and irretrievable commitment of resources that would have the effect of foreclosing the formulation or implementation of any reasonable and prudent alternative measures to reduce adverse impacts on protected resources, as they would only modify reporting requirements and would not alter fishing practices.

The area affected by this proposed action has been identified as essential fish habitat (EFH) for species managed by the New England Fishery Management Council, the Mid-Atlantic Fishery Management Council, the South Atlantic Fishery Management Council, the Gulf of Mexico Fishery Management Council, the Caribbean Fishery Management Council, and the HMS Management Division of NMFS. It is not anticipated that this action will have any adverse impacts on EFH, and, therefore, no consultation is required.

Notwithstanding any other provision of the law, no person is required to respond to, nor shall any person be subject to, a penalty for failure to comply with, a collection of information subject to the requirements of the PRA, unless that collection of information displays a currently valid OMB Control Number.

This proposed rule contains a new collection-of-information requirement and restates several existing reporting requirements subject to review and approval by the Office of Management and Budget (OMB) under the Paperwork Reduction Act (PRA). The new requirement has been submitted to OMB for approval as a revision to a collection currently approved under OMB control number 0648-0013.

The new requirement that has been submitted to OMB for approval is an extension of dealer reporting requirements to Atlantic tunas, with an estimated public reporting burden of 12 minutes per response for dealers who would otherwise have been required to file a negative report (if permitted for swordfish or shark), 15 minutes for other dealers reporting purchases, and 3 minutes for other dealers to file.

This proposed rule also restates a number of collection-of-information requirements that have been approved by OMB. These requirements and their OMB control numbers and estimated response times are: swordfish and shark dealer reports (15 minutes; 0648-0013); negative reports by swordfish and shark dealers (3 minutes; 0648-0013); swordfish import dealer reports (15 minutes; 0648-0363) and swordfish certificates of eligibility (1 hour; 0648-0363); bluefin tuna landing reports (2 minutes; 0648-0239); Atlantic tuna bi-weekly dealer report (15 minutes; 0648-0239); affixing tags to bluefin tunas and transferring tag numbers to documents (10 minutes; 0648-0239).

All estimates include the time for reviewing instructions, searching existing data sources, gathering and maintaining the data needed, and completing and reviewing the collection of information. Public comment is sought regarding: (1) the need for the proposed collection of information for the proper performance of the functions of the agency, including the practical utility of the information; (2) the accuracy of the burden estimate; (3) ways to enhance the quality, utility, and clarity of the information to be collected; and (4) ways to minimize the burden of the collection of information, including through the use of automated collection techniques or other forms of information technology. Send comments on these or any other aspects of the collection of information to NMFS and to OMB (see ADDRESSES).

List of Subjects in 50 CFR Part 635

Fisheries, Fishing, Reporting and recordkeeping requirements, Treaties.

Dated: November 30, 2000.
William T. Hogarth,
Deputy Assistant Administration for Fisheries, National Marine Fisheries Service

For the reasons set out in the preamble, 50 CFR part 635 is proposed to be amended as follows:

PART 635—ATLANTIC HIGHLY MIGRATORY SPECIES

1. The authority citation for part 635 continues to read as follows:

Authority: 16 U.S.C. 971 et seq.; 16 U.S.C. 1801 et seq.

2. In § 635.5, paragraphs (b)(1)(i), (b)(1)(ii), (b)(1)(iii),(b)(2)(i),(b)(2)(ii)(A) and (b)(2)(ii)(B) are revised to read as follows:

§ 635.5 Recordkeeping and reporting.

* * * * *

(b) * * *

(1) Atlantic HMS. (i) Dealers that receive Atlantic tunas, Atlantic swordfish, and Atlantic sharks from U.S. vessels must report all such species received on forms available from NMFS.

(ii) Dealers that import bluefin tuna or swordfish must report all such species imported on forms available from NMFS.

(iii) Reports of Atlantic tunas, Atlantic swordfish, and Atlantic sharks received by dealers from U.S. vessels, or reports of bluefin tuna and swordfish imported, on the first through the 15th of each month, must be postmarked not later than the 25th of that month. Reports of such fish received or imported on the 16th through the last day of each month must be postmarked not later than the 10th of the following month. For swordfish imports, a dealer must attach a copy of each certificate of eligibility to the report required under paragraph (b)(1)(ii) of this section. If a dealer issued an Atlantic tunas, swordfish or sharks dealer permit under § 635.4 has not received any Atlantic HMS from U.S. vessels during a reporting period as specified in this section, he or she must still submit the report required under paragraph (b)(1)(i) of this section stating that no Atlantic HMS were received. This negative report must be postmarked for the applicable reporting period as specified in this section.

* * * * *

(2) Requirements for bluefin tuna--(i) Dealer reports--(A) Landing reports. Each dealer issued an Atlantic tunas permit under § 635.4 must submit a completed landing report on a form available from NMFS for each BFT received from a U.S. fishing vessel. Such report must be submitted by electronic facsimile (fax) to a number designated by NMFS not later than 24 hours after receipt of the BFT. The landing report must indicate the name and permit number of the vessel that landed the BFT and must be signed by the permitted vessel's owner or operator immediately upon transfer of the BFT. The dealer must inspect the vessel's permit to verify that the required vessel name and vessel permit number as listed on the permit are correctly recorded on the landing report.

(B) Biweekly reports. Each dealer issued an Atlantic tunas permit under § 635.4 must submit a bi-weekly report on forms supplied by NMFS for BFT received from U.S. vessels and for imports of bluefin tuna. For BFT received from U.S. vessels and for bluefin tuna imported on the first through the 15th of each month, the dealer must submit the bi-weekly report forms to NMFS postmarked not later than the 25th of that month. Reports of BFT received and bluefin tuna imported on the 16th through the last day of each month must be postmarked not later than the 10th of the following month.

(ii) * * *

(A) Affixing dealer tags. A dealer or a dealer’s agent must affix a dealer tag to each BFT purchased or received from a U.S. vessel immediately upon offloading the BFT. If a vessel is placed on a trailer, the dealer or dealer’s agent must affix the dealer tag to the BFT immediately upon the vessel being removed from the water. The dealer tag must be affixed to the BFT between the fifth dorsal finlet and the caudal keel.

(B) Removal of dealer tags. A dealer tag affixed to any BFT under paragraph (b)(2)(ii)(A) of this section or a BSD tag affixed to an imported bluefin tuna must remain on the fish until it is cut into portions. If the bluefin tuna or bluefin tuna parts subsequently are packaged for transport for domestic commercial use or for export, the number of the dealer tag or the BSD tag must be written legibly and indelibly on the outside of any package containing the tuna. Such tag number also must be recorded on any document accompanying the shipment of bluefin tuna for commercial use or export.

* * * * *

3. In § 635.20, in paragraph (f)(1), the first two sentences are revised to read as follows:

§ 635.20 Size limits.

* * * * *

(f) Swordfish. (1) No person shall take, retain, or possess a north or south Atlantic swordfish taken from its management unit that is less than 29 inches (73 cm), CK, 47 inches (119 cm), LJFL, or 33 lb (15 kg) dressed weight. A swordfish that is damaged by shark bites may be retained only if the remainder of the carcass is at least 29 inches (73 cm) CK, 47 inches (119 cm), LJFL, or 33 lb (15 kg) dw. * * *

* * * * *

4. In § 635.21, in paragraph (c) introductory text, the first sentence is revised to read as follows:

§ 635.21 Gear operation and deployment restrictions.

(c) Pelagic longlines. For purposes of this part, a vessel is considered to have pelagic longline gear on board when a power-operated longline hauler, a mainline, floats capable of supporting the mainline, and leaders (gangions) with hooks are on board. * * *

* * * * *

5. In § 635.27, paragraphs (a)(2)(i), (a)(2)(ii), and (a)(2)(iii) are revised to read as follows:

§ 635.27 Quotas.

(a) * * *

(2) * * *

(i) Under paragraph (a)(7)(ii) of this section, 52.8 percent of the school BFT Angling category landings quota, minus the school BFT quota held in reserve, may be caught, retained, possessed, or landed south of 39°18' N. lat.;

(ii) An amount equal to 52.8 percent of the large school/small medium BFT Angling category quota may be caught, retained, possessed, or landed south of 39°18' N. lat.;

(iii) An amount equal to 66.7 percent of the large medium and giant BFT Angling category quota may be caught, retained, possessed, or landed south of 39°18' N. lat.

* * * * *

6. In the following sections, remove the word “tuna”, each time it appears, and add in its place the words “bluefin tuna”.

§ 635.42 [Amended]

a. Section 635.42, paragraphs (a)(1), (a)(2), (a)(3), and (b)(3).

§ 635.43 [Amended]

b. Section 635.43, paragraphs (a)(2), and (a)(12).

7. In the following sections, remove the acronym “BFT”, each time it appears, and add in its place the words “bluefin tuna”.

§ 635.41 [Amended]

a. Section 635.41 introductory text, paragraph (a) introductory text, paragraphs(a)(1), (a)(2), and (b).

§ 635.42 [Amended]

b. Section 635.42, paragraph (a) heading, paragraphs (a)(1), (a)(2), (a)(3), (b) heading, (b)(1), (b)(2), and (b)(3).

§ 635.43 [Amended]

c. Section 635.43, paragraphs (a)(2), (a)(5), (b), and (c).

d. Section 635.44, paragraphs (a) and (b).

§ 635.44 [Amended]

e. Section 635.45.

§ 635.45 [Amended]

f. Section 635.47

§ 635.47 [Amended]

g. Section 635.71 paragraphs (a)(24),(b)(25), and (b)(26).

8. In § 635.71, paragraph (a)(35) is added to read as follows:

§ 635.71 Prohibitions.

* * * * *

(a) * * *

(35) For any person to assault, resist, oppose, impede, intimidate, interfere with, obstruct, delay, or prevent, by any means, NMFS personnel or anyone collecting information for NMFS, under an agreement or contract, relating to the scientific monitoring or management of Atlantic HMS.

* * * * *

[FR Doc. 00-31104 Filed 12-1-00; 4:58 pm]

BILLING CODE: 3510-22-S